DEPARTMENT OF AGRICULTURE

Forest Service

National Urban and Community Forestry Advisory Council

AGENCY: Forest Service, USDA.

ACTION: Notice of meeting.

SUMMARY: The National Urban and Community Forestry Advisory Council will meet in Lake Buena Vista, FL, November 15-16, 2011, at the Coronado Springs Hotel. The purpose of the Council's meeting is to discuss the Council's plan of work, recommendations and accomplishments. Council will also host a listening session and document the public's input on the Vibrant City Initiative.

DATES: The business meeting will be held on Tuesday, November 15, 2011, 2 p.m. to 5 p.m. or until Council business is completed. The listening session will be held Wednesday, November 16, 2011, 5 p.m. to 6 p.m. Both meetings will be held in the hotel's Coronado Room D.

ADDRESSES: The meeting will be held at the Coronado Springs Hotel, 1000 West Buena Vista Drive, Lake Buena Vista, FL 32830, phone: (407) 939-1000.

Written comments concerning this meeting should be addressed to Nancy Stremple, Executive Staff to the National Urban and Community Forestry Advisory Council, 201 14th Street, SW., Yates Building (1 Central) MS-1151, Washington, DC 20250-1151. Comments may also be sent via email to nstremple@fs.fed.us, or via facsimile to (202) 690-5792.

All comments, including names and addresses when provided, are placed in the record and are available for public inspection and copying. To view and inspect these records, visitors are encouraged to call ahead to facilitate entry into the Forest Service building.

FOR FURTHER INFORMATION CONTACT: Nancy Stremple, Executive Staff to the National Urban and Community Forestry Advisory Council, 201 14th Street, SW., Yates Building (1 Central) MS-1151, Washington, DC 20250-1151, phone (202) 205-1054.

Individuals who use telecommunication devices for the deaf (TDD) may call the Federal Information Relay Service (FIRS) at 1-(800) 877-8339 between 8 a.m. and 8 p.m., Eastern Standard Time, Monday through Friday.

SUPPLEMENTARY INFORMATION: The business meeting is open to the public. Those interested in attending should contact Nancy Stremple to be placed on the meeting attendance list. Council discussion during the business meeting is limited to Forest Service staff and Council members; however, persons who wish to bring urban and community forestry matters to the attention of the Council may file written statements with the Council staff (201 14th Street SW., Yates Building (1 Central) MS-1151, Washington, DC 20250-1151, email: nstremple@fs.fed.us) before or after the meeting. The listening session is open to the public. Public comments will be compiled, and recommendations will be included in the Council's annual recopmmendations to the Secretary of Agriculture.

Dated: October 26, 2011
Robin L. Thompson,
Associate Deputy Chief, State and Private Forestry.

[FR Doc. 2011-28336 Filed 11-1-11; 8:45 am]

BILLING CODE 3410-11-P